DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date:

September 22, 2009, 9 a.m.-3 p.m.

September 23, 2009, 10 a.m.-4 p.m.

Place: Marriott Washington Hotel, 1221 22nd Street, NW., Washington, DC 20037.

Status: Open.

Purpose: At this meeting the Committee will hear presentations and hold discussions on several health data policy topics. On the morning of the first day the Committee will hear updates from the Department, the Center for Medicare and Medicaid Services, and the Office of the National Coordinator. A discussion of the letter to the HHS Secretary with recommendations on privacy for Personal Health Records (PHR) will also take place. There will also be a briefing on health statistics for children. In the afternoon there will be a review and discussion regarding the updating of the Health Statistics for the 21st Century Report.

On the morning of the second day there will be a review of the final letter on privacy for PHRs and a final discussion on a compendium of principles and best practices for stewardship of personally identifiable health data. The Committee will discuss plans for a 60th Anniversary Symposium to be held next June. There will also be an update from NCHS Board of Scientific Counselors. The final agenda item will consist of reports from the Subcommittees.

The times shown above are for the full Committee meeting. Subcommittee breakout sessions can be scheduled for late in the afternoon of the first day and second day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: August 21, 2009.
James Scanlon,
Deputy Assistant Secretary for Science and Data Policy, Office of the Assistant Secretary for Planning and Evaluation.

[FR Doc. E9-21148 Filed 9-1-09; 8:45 am]

BILLING CODE 4151-05-P